DEPARTMENT OF TRANSPORTATION

Federal Aviation Administration

14 CFR Part 39

[Docket No. FAA-2007-28431; Directorate Identifier 2007-CE-050-AD]

RIN 2120-AA64

Airworthiness Directives; Alexandria Aircraft, LLC (Type Certificate No. 1A3 and A18CE Formerly Held by Bellanca, Inc.) Models 17-30, 17-31, 17-30A, 17-31A, and 17-31ATC Airplanes

AGENCY: Federal Aviation Administration (FAA), Department of Transportation (DOT).

ACTION: Notice of proposed rulemaking (NPRM).

SUMMARY: We propose to supersede Airworthiness Directive (AD) 76-23-03-R1, which applies to certain Alexandria Aircraft, LLC (Bellanca) Models 17-30, 17-31, 17-30A, 17-31A, and 17-31ATC airplanes. AD 76-23-03-R1 currently requires you to inspect the muffler and tailpipe assemblies for cracks and inspect the exhaust assembly for freedom of movement at the ball joints. Since we issued AD 76-23-03-R1, we have received additional reports of in-flight exhaust system failures. Consequently, this proposed AD would reduce the exhaust system inspection interval; require a more detailed inspection of the muffler; and require replacement, reconditioning, or repair of the exhaust system if cracks or defects are found. This proposed AD would also require rerouting of the magneto “P” leads. We are proposing this AD to detect and correct cracks in the exhaust system, which could result in heat damage to magneto electrical wiring and smoke in the cockpit. This failure could lead to loss of engine power and/or a fire in the engine compartment.

DATES: We must receive comments on this proposed AD by October 30, 2007.

ADDRESSES: Use one of the following addresses to comment on this proposed AD:

• DOT Docket Web site: Go to http://dms.dot.gov and follow the instructions for sending your comments electronically.

• Mail: U.S. Department of Transportation, Docket Operations, M-30, West Building Ground Floor, Room W12-140, 1200 New Jersey Avenue, SE., Washington, DC 20590.

• Fax: (202) 493-2251.

• Hand Delivery: U.S. Department of Transportation, Docket Operations, M-30, West Building Ground Floor, Room W12-140, 1200 New Jersey Avenue, SE., Washington, DC 20590, between 9 a.m. and 5 p.m., Monday through Friday, except Federal holidays.

• Federal eRulemaking Portal: http://www.regulations.gov. Follow the instructions for submitting comments.

For service information identified in this proposed AD, contact Bellanca/Alexandria Aircraft, LLC, 2504 Aga Drive, Alexandria, MN 56308; phone: (320) 763-4088; fax: (320) 763-4095; Internet: www.bellanca-aircraft.com.

FOR FURTHER INFORMATION CONTACT: Michael Downs, Aerospace Engineer, ACE-118C, Chicago Aircraft Certification Office, 2300 East Devon Avenue, Room 107, Des Plaines, Illinois 60018, phone: (847) 294-7870, fax: (847) 294-7834.

SUPPLEMENTARY INFORMATION:

Comments Invited

We invite you to send any written relevant data, views, or arguments regarding this proposed AD. Send your comments to an address listed under the ADDRESSES section. Include the docket number, “FAA-2007-28431; Directorate Identifier 2007-CE-050-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

Several reports of exhaust system failures, which led to smoke in the cockpit and heat damage to components in the engine compartment, on Bellanca Model 17-30 and 17-30A airplanes caused us to issue AD 76-23-03-R1, Amendment 39-5454. AD 76-23-03-R1 currently requires you to do the following on Bellanca 17-30, 17-31, 17-30A, and 17-31A airplanes:

• Visually inspect the muffler and tailpipe assemblies for cracks, paying particular attention to the ball joint welds, the outlets of the muffler and resonator, and the support for the tailpipe assembly; and

• Inspect the exhaust system for freedom of movement at the ball joints by removing the tailpipe support bolts.

Since issuing AD 76-23-03-R1, we have received additional reports of in-flight exhaust system failures. Typically, the muffler fails at the weld which holds the ball joint to the muffler. The hot exhaust gases then escape and melt insulation on the wire bundle that includes the magneto “P” leads. When both the left and right magneto “P” leads short to ground, the engine stops.

This condition, if not corrected, could lead to loss of engine power and/or a fire in the engine compartment.

Relevant Service Information

We have reviewed Bellanca/Alexandria Aircraft, LLC Service Letter B-110, dated May 8, 2007, and Bellanca/Alexandria Aircraft, LLC drawing SK 1072, dated April 2, 2007.

The service information describes procedures for:

• Inspecting the exhaust system;

• replacing and/or repairing exhaust system parts; and

• rerouting the magneto “P” leads.

FAA's Determination and Requirements of the Proposed AD

We are proposing this AD because we evaluated all information and determined the unsafe condition described previously is likely to exist or develop on other products of the same type design. This proposed AD would supersede AD 76-23-03 R1 with a new AD that would reduce the exhaust system inspection interval; require a more detailed inspection of the muffler; and require replacement, reconditioning, or repair of the exhaust system if cracks or defects are found. This proposed AD would also require rerouting of the magneto “P” leads. This proposed AD would require you to use the service information described previously to perform these actions.

Costs of Compliance

We estimate that this proposed AD would affect 1,350 airplanes in the U.S. registry.

We estimate the proposed inspection of the exhaust system would affect 1,200 airplanes with the following costs:

Labor cost | Parts cost | Total cost per airplane | Total cost on U.S. operators
4 work-hours × $80 per hour = $320 | N/A | $320 | $384,000

We estimate the proposed rerouting of the magneto “P” wires would affect 1,050 airplanes with the following costs:

Labor cost | Parts cost | Total cost per airplane | Total cost on U.S. operators
4 work-hours × $80 per hour = $320 | $500 | $820 | $861,000

We estimate the following costs to replace the exhaust system based on the results of the proposed inspection. The estimate is based on updating the entire exhaust system to the current production exhaust system. This proposed AD allows other means to do the required repairs/replacement which could cost less. We have no way of determining the number of airplanes that may need this repair/replacement:

Labor cost | Parts cost | Total cost per airplane
8 work-hours × $80 per hour = $640 | $4,000 | $4,640

The estimated costs represented in the above actions include the costs associated with AD 76-23-03 R1 and the costs of this proposed AD. The added cost impact this AD imposes upon an owner/operator over that already required by AD 76-23-03 R1 is a more detailed inspection which requires more work-hours to accomplish and rerouting of the magneto “P” wires on certain models.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 76-23-03 R1, Amendment 39-5454, and adding the following new AD:

Alexandria Aircraft, LLC (Type Certificate No. 1A3 and A18CE formerly held by Bellanca, Inc.): Docket No. FAA-2007-28431; Directorate Identifier 2007-CE-050-AD.

Comments Due Date

(a) We must receive comments on this airworthiness directive (AD) action by October 30, 2007.

Affected ADs

(b) This AD supersedes AD 76-23-03 R1, Amendment 39-5454.

Applicability

(c) This AD applies to the following airplane models and serial numbers that are certificated in any category:

Model | Serial numbers
17-30 | all serial numbers.
17-30A | 30263 through 301030.
17-31 | all serial numbers.
17-31A | all serial numbers.
17-31ATC | all serial numbers.

Unsafe Condition

(d) This AD results from several accidents caused by exhaust system failures. We are proposing this AD to detect and correct cracks in the exhaust system, which could result in heat damage to magneto electrical wiring and smoke in the cockpit. This failure could lead to loss of engine power and/or a fire in the engine compartment.

Compliance

(e) To address this problem, you must do the following, unless already done:

Actions | Compliance | Procedures
(1) For aircraft models and serial numbers listed below, inspect the exhaust system for cracks or other defects such as excessive wear (i) Model 17-30, all serial numbers; (ii) Model 17-30A, serial numbers 30263 through 301030; (iii) Model 17-31, all serial numbers; and (iv) Model 17-31A, all serial numbers | Initially within the next 12 months after the effective date of this AD or within 25 hours time-in-service (TIS) after the effective date of this AD, whichever occurs first. Then repetitively thereafter at intervals not to exceed 12 months or 50 hours TIS, whichever occurs first. Accomplishment of the actions in paragraph (e)(2)(i) or (e)(2)(ii) of this AD terminates the recurring inspections required in this paragraph for the replaced/reconditioned exhaust system (left and/or right side). | Follow Bellanca/Alexandria Aircraft, LLC Service Letter B-110, dated May 8, 2007.
(2) Repair or replace the exhaust system using any of the options listed below (i) Option #1—replace the entire defective left and/or right muffler and tailpipe assembly(ies) with new parts as specified in Bellanca/Alexandria Aircraft, LLC Service Letter B-110, dated May 8, 2007 (ii) Option #2—replace the entire defective left and/or right muffler and tailpipe assembly(ies) with parts reconditioned to the new parts as specified in Bellanca/Alexandria Aircraft, LLC Service Letter B-110, dated May 8, 2007; or (iii) Option #3—recondition or repair the defective left and/or right muffler and tailpipe assembly(ies) to their original configuration using FAA-approved methods and materials | Before further flight after any inspection required in paragraph (e)(1) of this AD where a crack or other defect is found. The actions in paragraph (e)(2)(i) or (e)(2)(ii) of this AD terminates the recurring inspections required in paragraph (e)(1) this AD for the replaced/reconditioned exhaust system (left and/or right side) | Follow Bellanca/Alexandria Aircraft, LLC Service Letter B-110, dated May 8, 2007
(3) For aircraft models and serial numbers listed below that do not have Bellanca/Alexandria Aircraft, LLC Service Kit 1067: Rerouting Right Magneto “P” Lead installed, reroute the magneto “P” leads (i) Model 17-30A, serial numbers 30263 through 30998 (ii) Model 17-31A, all serial numbers; and (iii) Model 17-31ATC, all serial numbers | Within the next 12 months after the effective date of this AD or within 100 hours TIS after the effective date of this AD, whichever occurs first | Follow Bellanca/Alexandria Aircraft, LLC Service Kit 1072 instructions located on drawing SK 1072, dated April 2, 2007, as referenced in Bellanca/Alexandria Aircraft, LLC Service Letter B-110, dated May 8, 2007.

Alternative Methods of Compliance (AMOCs)

(f) The Manager, Chicago Aircraft Certification Office, FAA, has the authority to approve AMOCs for this AD, if requested using the procedures found in 14 CFR 39.19. Send information to ATTN: Michael Downs, Aerospace Engineer, ACE-118C, Chicago Aircraft Certification Office, 2300 East Devon Avenue, Room 107, Des Plaines, Illinois 60018; phone: (847) 294-7870; fax: (847) 294-7834. Before using any approved AMOC on any airplane to which the AMOC applies, notify your appropriate principal inspector (PI) in the FAA Flight Standards District Office (FSDO), or lacking a PI, your local FSDO.

Related Information

(g) To get copies of the service information referenced in this AD, contact Bellanca/Alexandria Aircraft, LLC, 2504 Aga Drive, Alexandria, MN 56308; phone: (320) 763-4088; fax: (320) 763-4095; Internet: www.bellanca-aircraft.com. To view the AD docket, go to the U.S. Department of Transportation, Docket Operations, M-30, West Building Ground Floor, Room W12-140, 1200 New Jersey Avenue, SE., Washington, DC 20590, or on the Internet at http://dms.dot.gov. The docket number is Docket No. FAA-2007-28431; Directorate Identifier 2007-CE-050-AD.

Issued in Kansas City, Missouri, on August 24, 2007.
Brian A. Yanez,
Acting Manager, Small Airplane Directorate, Aircraft Certification Service.

[FR Doc. E7-17289 Filed 8-30-07; 8:45 am]

BILLING CODE 4910-13-P